NATIONAL SCIENCE FOUNDATION

Understanding the Spectrum Environment: Using Data and Monitoring To Improve Spectrum Utilization

AGENCY: The National Coordination Office (NCO) for Networking and Information Technology Research and Development (NITRD).

ACTION: Notice.

FOR FURTHER INFORMATION CONTACT: Wendy Wigen at 703-292-4873 or wigen@nitrd.gov. Individuals who use a telecommunications device for the deaf (TDD) may call the Federal Information Relay Service (FIRS) at 1-800-877-8339 between 8 a.m. and 8 p.m., Eastern time, Monday through Friday.

DATES: March 31, 2014.

SUMMARY: Representatives from Federal research agencies, private industry, and academia will identify R&D in the area of data and monitoring that will promote progress toward more efficient spectrum utilization and sharing.

SUPPLEMENTARY INFORMATION:

Overview: This notice is issued by the National Coordination Office for the Networking and Information Technology Research and Development (NITRD) Program. Agencies of the NITRD Program are holding the fifth in a series of workshops to bring together experts from private industry and academia to help identify spectrum data and monitoring research that will accelerate the progress toward more efficient spectrum utilization and sharing. The workshop will take place on March 31, 2014, from 9:00 a.m. to 6:00 p.m. ET at the National Science Foundation, Room II-555, 4201 Wilson Blvd., Arlington, VA 22230. This event will be Web cast. The event agenda and information about the Web cast will be available the week of the event at: http://www.nitrd.gov/nitrdgroups/index.php?title=Wireless_Spectrum_Research_and_Development_(WSRD)#title.

Background: The Presidential Memorandum on Unleashing the Wireless Broadband Revolution, released on June 28, 2010, directed the federal agencies to work together and with the non-federal community, including the academic, commercial, and public safety sectors, to create and implement a plan that “facilitates research, development, experimentation, and testing by researchers to explore innovative spectrum-sharing technologies.”

The WSRD has held four workshops that addressed the challenge defined in that Presidential Memorandum. During WSRD's first Workshop held at Boulder, CO, in July 2011, the participants indicated that a national-level testing environment is critical for validating spectrum sharing technology under realistic conditions; they also emphasized the value of a spectrum sharing testing environment for a diversity of users. At a second workshop, held in Berkeley, CA, in January 2012, key concepts and criteria were established for spectrum sharing test and evaluation capabilities. The third workshop, held in Boulder, CO, in July 2012, identified realistic projects whose implementation will significantly support the plan to meet the Presidential Memorandum's goals. The fourth workshop, held in Cambridge, MA, in April 2013, resulted in recommendations for the economic and policy research that is needed to promote an efficient and shared spectrum environment. This workshop will focus on new opportunities for understanding the spectrum environment presented by improvements in monitoring and data analysis.

Submitted by the National Science Foundation for the National Coordination Office (NCO) for Networking and Information Technology Research and Development (NITRD) on March, 18, 2014.
Suzanne H. Plimpton,
Reports Clearance Officer, National Science Foundation.

[FR Doc. 2014-06327 Filed 3-21-14; 8:45 am]

BILLING CODE 7555-01-P